DEPARTMENT OF TRANSPORTATION

Federal Highway Administration

Environmental Impact Statement, Los Angeles County, CA

AGENCY: Federal Highway Administration (FHWA), DOT.

ACTION: Notice of withdrawal.

SUMMARY: The FHWA is issuing this notice to advise the public that the Notice of Intent to prepare an Environmental Impact Statement (EIS) for the proposed Interstate 5 (I-5) High Occupancy Vehicle (HOV) and Truck Lanes project in the City of Santa Clarita and the County of Los Angeles (Federal Register Vol. 72, No. 90; FR Doc. E7-8937), California will be withdrawn, and an Environmental Assessment (EA) in lieu of an EIS is being prepared for this proposed highway project.

FOR FURTHER INFORMATION CONTACT: Mine Struhl, Associate Environmental Planner, California Department of Transportation, Division of Environmental Planning, 100 S. Main St., MS 16A, Los Angeles, CA 90012, (213) 897-5446.

SUPPLEMENTARY INFORMATION: The FHWA, on behalf of the California Department of Transportation (Caltrans), is advising the general public that Caltrans conducted studies of the potential environmental impacts associated with the proposed highway project. The project proposes to widen existing I-5 between the State Route 14 (SR-14) Interchange and the Parker Road Interchange. The project area is in Los Angeles County and covers a distance of approximately 13.6 miles (mi).

Within the limits of the proposed project, I-5 currently provides generally four mixed-flow lanes in each direction, with the exception of three mixed-flow lanes in each direction at the I-5/SR-14 interchange. In addition, two truck lanes in each direction are separated from the mainline freeway south of the Weldon Canyon Overcrossing. The project segment of I-5 crosses the City of Santa Clarita, the unincorporated community of Castaic, and other parts of unincorporated northern Los Angeles County.

The project proposes extending the HOV lanes on I-5 from the newly constructed HOV lanes south of the SR-14 interchange to just south of the Parker Road/I-5 interchange, incorporating truck climbing lanes from the SR-14 interchange to Pico Canyon Road/Lyons Avenue, and constructing and/or extending auxiliary lanes between interchanges at six locations.

Three alternatives, including the No Build Alternative, are being analyzed as part of the Draft EA. The alternatives are defined as follows: Alternative 1—No Build; Alternative 2—Reduced Median; and Alternative 3—Full Median. Alternative 2 would provide one HOV lane in each direction from SR-14 to Parker Road and truck climbing lanes in each direction from SR-14 to Calgrove Boulevard (NB) and Pico Canyon Road/Lyons Road (SB). This Reduced Median Alternative would provide standard lane widths. Alternative 3 would include the same HOV and truck lanes as described above and would provide for standard lane widths and full shoulders.

The EA will be available for public inspection prior to the public meeting. Comments or questions concerning this proposed action and the determination that an EA is the proper environmental document should be directed to Caltrans at the address provided above.

(Catalog of Federal Domestic Assistance Program Number 20.205, Highway Research Planning and Construction. The regulations implementing Executive Order 12372 regarding intergovernmental consultation on federal programs and activities apply to this program.)

Issued on: November 3, 2008.
Nancy E. Bobb,
Director, State Programs, Federal Highway Administration, Sacramento, California.

[FR Doc. E8-26714 Filed 11-7-08; 8:45 am]

BILLING CODE 4910-22-P